DEPARTMENT OF THE INTERIOR

Bureau of Land Management

[AK-932-1430-ET; AA-82857]

Public Land Order No. 7555; Withdrawal of National Forest System Land for the Russian River and Upper Russian Lake Recreation Corridor; Alaska

AGENCY: Bureau of Land Management, Interior.

ACTION: Public land order.

SUMMARY: This order withdraws approximately 2,998 acres of National Forest System land from location and entry under the United States mining laws for a period of 20 years to protect the Russian River and Upper Russian Lake Recreation Corridor. The land will remain open such uses as may by law be made of National Forest System lands, and all public uses consistent with the recreational utilization and protection of the Russian River watershed.

EFFECTIVE DATE: February 13, 2003.

FOR FURTHER INFORMATION CONTACT: Robbie J. Havens, Bureau of Land Management, Alaska State Office, 222 W. 7th Avenue, No. 13, Anchorage, Alaska 99513-7599, 907-271-5477.

Order

By virtue of the authority vested in the Secretary of the Interior by Section 204 of the Federal Land Policy and Management Act of 1976, 43 U.S.C. 1714 (1994), it is ordered as follows:

1. Subject to valid existing rights, the following described National Forest System land is hereby withdrawn from location and entry under the United States mining laws (30 U.S.C. Ch.2 (1994)) to protect the Russian River and Upper Russian Lake Recreation Corridor:

Seward Meridian

Chugach National Forest

T. 3 N., R. 4 W., unsurveyed,

Sec. 4, N½ lying east of forest boundary, and SE¼ lying east of forest boundary;

Sec. 9, NE¼ lying east of forest boundary;

Sec. 10, N½ lying north of forest boundary;

Sec. 11, that portion lying north of forest boundary, excluding the N½NE¼;

Sec. 12, S½ lying northeast of the forest boundary;

Sec. 13, N½ lying north of the ordinary high water mark along the northeast shore of Upper Russian Lake.

T. 4 N., R. 4 W., unsurveyed,

Sec. 9, SE¼NE¼ and E½SE¼;

Sec. 10, SW¼NW¼ and W½SW¼;

Sec. 16, E½NE¼ and SE¼;

Sec. 21, W½E½, S½NW¼ lying east of forest boundary, and SW¼ lying east of forest boundary;

Sec. 28, W½E½ and W½ lying east of forest boundary;

Sec. 29, E½ lying east of forest boundary;

Sec. 32, NE¼ lying east of forest boundary;

Sec. 33, W½E½ and W½ lying east of forest boundary.

The area described contains approximately 2,998 acres.

2. The withdrawal made by this order does not alter the applicability of those public land laws governing the use of National Forest System lands under lease, license, or permit, or governing the disposal of their mineral or vegetative resources other than under the mining laws.

3. This withdrawal will expire 20 years from the effective date of this order unless, as a result of a review conducted before the expiration date pursuant to Section 204(f) of the Federal Land Policy and Management Act of 1976, 43 U.S.C. 1714(f)(1994), the Secretary determines the withdrawal shall be extended.

Dated: January 29, 2003.
Rebecca W. Watson,
Assistant Secretary—Land and Minerals Management.

[FR Doc. 03-3552 Filed 2-12-03; 8:45 am]

BILLING CODE 4310-JA-P